DEPARTMENT OF COMMERCE

National Oceanic and Atmospheric Administration

[I.D. 052302C]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Habitat Committee in June, 2002. Recommendations from the committee will be brought to the full Council for formal consideration and action, if appropriate.

DATES: The meetings will held on Wednesday, June 19, 2002, at 9:30 a.m. and on Thursday, June 20 at 9 a.m.

ADDRESSES: The meeting will be held at the Holiday Inn, 31 Hampshire Street, Mansfield, MA 02048; telephone: (508) 339-2200.

Council address: New England Fishery Management Council, 50 Water Street, Newburyport, MA 01950.

FOR FURTHER INFORMATION CONTACT: Paul J. Howard, Executive Director, New England Fishery Management Council (978) 465-0492.

SUPPLEMENTARY INFORMATION: The committee will consider methods for minimizing the effects of monkfish fishing on essential fish habitat. The agenda will include discussion of other Monkfish Amendment 2 issues, possible discussions of Scallop Amendment 10 and Groundfish Amendment 13 issues as they relate to essential fish habitat. The committee will also discuss modeling efforts for potential closed areas or areas of focus. There will be a presentation of the proposed Nova Scotia to New York City pipeline project by the project consultant.

Although non-emergency issues not contained in this agenda may come before this group for discussion, those issues may not be the subject of formal action during this meeting. Action will be restricted to those issues specifically listed in this notice and any issues arising after publication of this notice, that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 29, 2002.
Richard W. Surdi,
Acting Director, Office of Sustainable Fisheries, National Marine Fisheries Service.

[FR Doc. 02-13951 Filed 6-3-02; 8:45 am]

BILLING CODE 3510-22-S